NUCLEAR REGULATORY COMMISSION

[Docket Nos. 50-282-LR, 50-306-LR; ASLBP No. 08-871-01-LR-BD01]

Nuclear Management Company, LLC; Establishment of Atomic Safety and Licensing Board

Pursuant to delegation by the Commission dated December 29, 1972, published in the Federal Register, 37 FR 28,710 (1972), and the Commission's regulations, see 10 CFR 104, 2.300, 2.303, 2.309, 2.311, 2.318, and 2.321, notice is hereby given that an Atomic Safety and Licensing Board (Board) is being established to preside over the following proceeding:

Nuclear Management Company, LLC (Prairie Island Nuclear Generating Plant, Units 1 and 2)

This proceeding involves an application for renewal of the licenses that authorize Nuclear Management Company, LLC to operate Prairie Island Nuclear Generating Plant, Units 1 and 2 for a twenty-year period beyond their current expiration dates of, respectively, August 9, 2013 and October 29, 2014. In response to a June 17, 2008 Notice of Acceptance for Docketing of the Application and Notice of Opportunity for Hearing (73 FR 34,335), a petition to intervene has been submitted by Philip R. Mahowald on behalf of the Prairie Island Indian Community.

The Board is comprised of the following administrative judges:

William J. Froehlich, Chairman, Atomic Safety and Licensing Board Panel, U.S. Nuclear Regulatory Commission, Washington, DC 20555-0001

Gary S. Arnold, Atomic Safety and Licensing Board Panel, U.S. Nuclear Regulatory Commission, Washington, DC 20555-0001

Thomas J. Hirons, Atomic Safety and Licensing Board Panel, U.S. Nuclear Regulatory Commission, Washington, DC 20555-0001

All correspondence, documents, and other materials shall be filed in accordance with the NRC E-Filing rule, which the NRC promulgated in August 2007 (72 FR 49,139).

Issued at Rockville, Maryland, this 3rd day of September 2008.
E. Roy Hawkens,
Chief Administrative Judge, Atomic Safety and Licensing Board Panel.

[FR Doc. E8-20849 Filed 9-8-08; 8:45 am]

BILLING CODE 7590-01-P